NATIONAL COUNCIL ON DISABILITY

Sunshine Act Meetings

TIME AND DATES: The Members of the National Council on Disability (NCD) will hold a quarterly meeting on Thursday, July 25, 3:00 p.m.-5:30 p.m. (EDT), and Friday, July 26, 2013, 8:30 a.m.-12:15 p.m. Noon (EDT).

PLACE: The meeting will occur at a different location each day. On Thursday, the quarterly meeting will be held at the White House Old Executive Office Building. The location, due to security clearance considerations, will not be open to the public, however the quarterly meeting's proceedings will be available by phone to interested parties (in a listen-only capacity with the exception of the public comment period). Interested parties may access Thursday's meeting's proceedings by phone by using the following call-in number: 1-888-778-8914; passcode: 3123791. If asked, the call host's name is Jeff Rosen. On Friday, the quarterly meeting will be held at the Access Board Conference Room, 1331 F Street NW., Suite 800, Washington, DC. Interested parties may join the meeting in person or by phone in a listening-only capacity (with the exception of the public comment period) using the following call-in number: 1-888-778-8914; passcode: 3123791. If asked, the call host's name is Jeff Rosen.

MATTERS TO BE CONSIDERED: On Thursday afternoon, the Council will discuss and deliberate a draft NCD Principles Statement. After the discussion, the Council will receive public comment for fifteen minutes. On Friday, the Council will receive reports from the Executive Director and the Chairperson as well as from NCD's standing committees. Following these reports, NCD will hear from a panel of policy experts on new models of workplace accommodations, including Chai Feldblum, Commissioner, Equal Employment Opportunity Commission; John Evans, WA Vocational Rehabilitation Employer Relations Manager; and Susan Mazrui, AT&T Director of Public Policy. Following the panel and brief break, NCD will receive public comment from individuals interested in focusing their remarks on workplace accommodations.

Following public comment, the Council will discuss two pending NCD policy reports—one on the veterans disability benefits backlog, and the other on the Help America Vote Act.

AGENDA: The times provided below are approximations for when each agenda item is anticipated to be discussed (all times Eastern):

Thursday, July 25:

3:00-3:15 p.m. Overview of Afternoon Activities

3:15-5:15 Council Discussion on NCD Principles Statement

5:15-5:30 p.m. Public Comment (phone comment only; all topics)

Tuesday, April 23:

8:30-8:45 a.m. Introduction of NCD Members, Staff, and Guests; Chairperson's Report; Executive Director's Report

8:45-9:30 a.m. Committee Reports (Audit & Finance; Governance; Policy Development and Program Evaluation; CRPD Task Force)

9:30-10:30 a.m. Panel on New Models of Workplace Accommodations

10:45-11:15 a.m. Public Comment (phone and in-person; limited to comments about new ideas and models regarding workplace accommodations for people with disabilities)

11:15-11:45 a.m. Council Discussion on Draft Veterans Disability Benefits Backlog Report

11:45 a.m.-12:15 p.m. Council Discussion on Draft Help America Vote Act Report

12:15 p.m. Adjourn

PUBLIC COMMENT: Any individuals interested in providing public comment will be asked to provide their names and their organizational affiliations, if applicable, and to limit their comments to three minutes. Individuals may also provide public comment by sending their comments in writing to Lawrence Carter-Long, Public Affairs Specialist, at lcarterlong@ncd.gov, using the subject line of “Public Comment.”

CONTACT PERSON FOR MORE INFORMATION: Anne Sommers, NCD, 1331 F Street NW., Suite 850, Washington, DC 20004; 202-272-2004 (V), 202-272-2074 (TTY).

ACCOMMODATIONS: A CART streamtext link has been arranged for each day of the board meeting. For Thursday, beginning at 3:00 p.m., EDT, the web link to access CART is http://www.streamtext.net/text.aspx?event=072513NCD300pm. For Friday, beginning at 8:30 a.m., e.d.t., the web link to access CART is http://www.streamtext.net/text.aspx?event=072613NCD830am. Those who plan to attend Friday's meeting in person and require accommodations should notify NCD as soon as possible to allow time to make arrangements.

Please note: To help reduce exposure to fragrances for those with multiple chemical sensitivities, NCD requests that all those attending the meeting in person please refrain from wearing scented personal care products such as perfumes, hairsprays, colognes, and deodorants.

Dated: July 2, 2013.
Rebecca Cokley,
Executive Director.

[FR Doc. 2013-16310 Filed 7-2-13; 4:15 pm]

BILLING CODE 6820-MA-P